DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Large Pelagic Fishing Survey.

OMB Control Number: 0648-0380.

Form Number(s): NA.

Type of Request: Regular submission (revision/extension of a current information collection).

Number of Respondents: 12,434.

Average Hours per Response: Telephone survey, 10 minutes; intercept survey, 5 minutes; follow-up telephone call, 2 minutes; biological survey, 1 minute; headboat survey, 4 minutes.

Burden Hours: 2,451.

Needs and Uses: This request is for a revision and extension of a current information collection.

The Large Pelagic Fishing Survey consists of dockside and telephone surveys of recreational anglers for large pelagic fish (tunas, sharks, and billfish) in the Atlantic Ocean. The survey provides the National Marine Fisheries Service (NMFS) with information to monitor catch of bluefin tuna, marlin and other federally-managed species. Catch monitoring in these fisheries and collection of catch and effort statistics for all pelagic fish is required under the Atlantic Tunas Convention Act and the Magnuson-Stevens Fishery Conservation and Management Act. The information collected is essential for the United States (U.S.) to meet its reporting obligations to the International Commission for the Conservation of Atlantic Tuna. The revision is due to the elimination of two surveys from the collection.

Affected Public: Individuals or households.

Frequency: Annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: August 23, 2011.
Gwellnar Banks,
Management Analyst, Office of the Chief Information Officer.

[FR Doc. 2011-21889 Filed 8-25-11; 8:45 am]

BILLING CODE 3510-22-P